ENVIRONMENTAL PROTECTION AGENCY

[FRL OP-OFA-071]

Environmental Impact Statements; Notice of Availability

Responsible Agency: Office of Federal Activities, General Information 202-564-5632 or https://www.epa.gov/nepa.

Weekly receipt of Environmental Impact Statements (EIS)

Filed May 15, 2023 10 a.m. EST Through May 22, 2023 10 a.m. EST

Pursuant to 40 CFR 1506.9

Notice

Section 309(a) of the Clean Air Act requires that EPA make public its comments on EISs issued by other Federal agencies. EPA's comment letters on EISs are available at: https://cdxapps.epa.gov/cdx-enepa-II/public/action/eis/search.

EIS No. 20230068, Draft, BLM, NV, Greenlink West Project, Comment Period Ends: 08/23/2023, Contact: Brian Buttazoni 775-861-6491.

EIS No. 20230069, Final, USFS, CA, Sequoia and Sierra National Forests Land Management Plans Revision, Review Period Ends: 06/26/2023, Contact: Bobbie Miller 530-841-4418.

EIS No. 20230070, Final, BOEM, NJ, Ocean Wind 1 Offshore Wind Farm, Review Period Ends: 06/26/2023, Contact: Jessica Stromberg 703-787-1730.

Amended Notice

EIS No. 20230051, Draft Supplement, BR, CO, WITHDRAWN—Near-term Colorado River Operations, Comment Period Ends: 05/30/2023, Contact: Genevieve Johnson 602-609-6739

Revision to FR Notice Published 04/14/2023; Officially Withdrawn per request of the submitting agency.

Dated: May 22, 2023.
Cindy S. Barger,
Director, NEPA Compliance Division, Office of Federal Activities.

[FR Doc. 2023-11292 Filed 5-25-23; 8:45 am]

BILLING CODE 6560-50-P